DEPARTMENT OF THE INTERIOR

National Park Service

Decision Notice and Finding of No Significant Impact (FONSI) for the Proposal To Improve the Arlington County, VA Potomac Interceptor Sewer System

AGENCY: National Park Service, Interior.

ACTION: Availability of the Decision Notice and FONSI for the proposal to improve the Arlington County, Virginia Potomac Interceptor Sewer System.

SUMMARY: Pursuant to Council on Environmental Quality regulations and National Park Service (NPS) policy, the NPS announces the availability of the Decision Notice and FONSI for the Improvements to the Arlington County, Virginia Potomac Interceptor Sewer System. The Decision Notice and FONSI identify Alternative A as selected by the NPS for action. It is the preferred and environmentally preferred alternative in the Environmental Assessment. Under this alternative, improvements will be made to the existing sewer system which will minimize impacts to the environment and the community by providing additional sewer capacity to eliminate sewer overflows, back-ups and surcharging, to address the aging elements of the system, while maintaining continuous service to existing users, to provide available capacity for future users, and implement a cost-effective project that minimizes capital and operating costs.

DATES: The Environmental Assessment, upon which the decision and FONSI were made, was available for public comment for 30 days in June—July 2003. Three responses were received in favor of the preferred alternative.

ADDRESSES: The Decision Notice and FONSI will be available for public inspection Monday through Friday, 8 a.m. through 4 p.m. at the GWMP Headquarters, Turkey Run Park, McLean, Virginia. The FONSI can also be viewed on the GWMP Web site at http://www.nps.gov/gwmp.

SUPPLEMENTARY INFORMATION: The Decision Notice and FONSI completes the Environmental Assessment process.

FOR FURTHER INFORMATION CONTACT: Ms. Sarah Koenen (703) 289-2540.

Dated: October 18, 2004.
Audrey F. Calhoun,
Superintendent, George Washington Memorial Parkway.

[FR Doc. 04-28292 Filed 12-27-04; 8:45 am]

BILLING CODE 4312-52-P